DEPARTMENT OF ENERGY

Federal Energy Regulatory Commission

[Docket No. RP05-14-000]

Transwestern Pipeline Company; Notice of Tariff Filing

October 7, 2004.

Take notice that on October 1, 2004, Transwestern Pipeline Company, LLC (Transwestern) tendered for filing as part of its FERC Gas Tariff, Third Revised Volume No. 1, the tariff sheets listed on Appendix A to the filing, to reflect a change in name and corporate form. Transwestern further states that it has also tendered a cross-reference table in Appendix B for review of currently effective and pending tariff sheets compared with proposed tariff sheets. Transwestern states that in addition to the change in name and corporate form, Transwestern is also proposing several minor clean-up edits to its Tariff. Transwestern also states that all tariff changes are identified in Appendix B, with the corresponding redlined tariff sheets provided as Appendix C. Transwestern states that the revised tariff sheets reflect a name change that is planned to occur on November 1, 2004. Transwestern states on that date it plans to convert from a corporation to a limited liability company and will change its name to Transwestern Pipeline Company, LLC.

Transwestern states that copies of its transmittal letter and Appendix B and Appendix C have been served on all affected customers and interested state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E4-2650 Filed 10-14-04; 8:45 am]

BILLING CODE 6717-01-P